DEPARTMENT OF ENERGY

Federal Energy Regulatory Commission

[Docket No. CP08-467-000]

Texas Gas Transmission, LLC; Notice of Intent To Prepare An Environmental Assessment for the Proposed Fayetteville Shale Compression Project and Request for Comments on Environmental Issues

September 30, 2008.

The staff of the Federal Energy Regulatory Commission (FERC or Commission) will prepare an environmental assessment (EA) that will address the environmental impacts of the Fayetteville Shale Compression Project (project) involving construction and operation of facilities by Texas Gas Transmission, LLC (Texas Gas) in White County, Arkansas, and Humpheys and Washington Counties, Mississippi.¹ The Commission will use the EA in its decision-making process to determine whether or not to authorize the project. This notice explains the scoping process we ² will use to gather environmental input from the public and interested agencies on the projects. Your input will help the Commission determine the issues that need to be evaluated in the EA. Please note that the scoping period will close on November 14, 2008.

¹ Texas Gas' application was filed with the Commission under section 7 of the Natural Gas Act and Part 157 of the Commission's regulations.

² “We,” “us,” and “our” refer to the environmental staff of the FERC's Office of Energy Projects.

Details on how to submit written comments are provided in the Public Participation section of this notice.

If you are a landowner receiving this notice, you may be contacted by a pipeline company representative about the acquisition of an easement to construct, operate, and maintain the proposed project facilities. The pipeline company would seek to negotiate a mutually acceptable agreement for its project. However, if the project is approved by the Commission, that approval conveys with it the right of eminent domain. Therefore, if easement negotiations fail to produce an agreement, the pipeline company could initiate condemnation proceedings in accordance with state law.

This notice is being sent to affected landowners; federal, state, and local government agencies; elected officials; environmental and public interest groups; Native American tribes; other interested parties; and local libraries and newspapers. We encourage government representatives to notify their constituents of this planned project and encourage them to comment on their areas of concern.

A fact sheet prepared by the FERC entitled “An Interstate Natural Gas Facility on My Land? What Do I Need To Know?” is available for viewing on the FERC Internet Web site (http://www.ferc.gov). This fact sheet addresses a number of typically asked questions, including the use of eminent domain and how to participate in the FERC's proceedings.

Summary of the Proposed Projects

Texas Gas proposes to construct, own, operate, and maintain certain natural gas transportation facilities within the states of Arkansas and Mississippi. The general locations of the proposed compression facilities are shown in the figure included as Appendix 1.³ The purpose of the project is to facilitate the transportation and delivery of natural gas from the Fayetteville Shale natural gas production fields in Arkansas via the Texas Gas system to markets in the midwest, northeast, and southeast United States.

³ The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the Public Participation section of this notice. Copies of the appendices were sent to all those receiving this notice in the mail. Requests for detailed maps of the proposed facilities should be made directly to Texas Gas.

Texas Gas proposes to begin constructing the project in June 2009, and to place the project in service in December 2009. The proposed facilities are listed below.

• The Bald Knob Compressor Station in White County, Arkansas, near milepost (MP) 65.8 of the Fayetteville Lateral would include:

○ 26,660 horsepower (hp) of compression consisting of two Solar Mars 100 turbines (T1 and T2) equipped with SoLoNOX (low nitrogen oxide [NOX ] burners);

○ A control building to house the compressors, an emergency backup generator, heaters, and other equipment;

○ An auxiliary building for the heating, ventilating, and air conditioning (HVAC) facilities; and

○ An 845-foot-long suction pipeline and a 746-foot-long discharge pipeline, both 36 inches in diameter between the station and the Fayetteville Lateral.

• The Isola Compressor Station in Humphreys County, Mississippi, near MP 27.0 of the Greenville Lateral would include:

○ 13,330 hp of compression consisting of one Solar Mars 100 turbine (T1) equipped with SoLoNOX (low NOX burners);

○ A control building to house the compressor, an emergency backup generator, heaters, and other equipment;

○ An auxiliary building for the HVAC facilities; and

○ A 675-foot-long suction pipeline and a 535-foot-long discharge pipeline, both 36 inches in diameter between the station and the Fayetteville Lateral.

• The modifications to the existing Greenville Compressor Station in Washington County, Mississippi, would include facilities to:

○ Connect two existing reciprocating compressors to the existing yard and station piping discharging to the Greenville Lateral;

○ Extend this yard and station piping to attach the T-2 turbine compressor to allow it to discharge into the Greenville Lateral; and

○ Upgrade and expand an existing check meter.

Land Requirement

The total land requirement for the project would be about 91.8 acres. Construction of the proposed new compressor stations would be within 60-acre and 81-acre parcels of land Texas Gas would acquire for construction and operation of the Bald Knob and Isola Compressor Stations, respectively. Construction of the Bald Knob Compressor Station would require about 41.8 acres, and about 8.9 acres of this total would be permanently required for operation. Permanent access to the site would be directly from North Taylor Road; so no new access road would be required.

Construction of the proposed Isola Compressor Station would require about 49.7 acres for construction, and about 13.3 acres of this total would be required for operation. Included in the permanent acreage requirement would be about 1.1 acres for a 1,996-foot-long, 30-foot-wide permanent access road extending from Beasley Bayou Road to the fenced station yard.

Construction of the proposed facilities at the existing Greenville Compressor Station would require about 0.3 acre to construct within the existing 45.8-acre, fenced station.

The disturbed areas would be restored following construction. Areas within the proposed compressor stations that would be fenced and permanently impacted by operation of the proposed facilities would be gravel-or concrete-covered. Areas outside the fenced areas would be seeded and restored.

The EA Process

The National Environmental Policy Act (NEPA) requires the Commission to take into account the environmental impacts that could result from an action when it considers whether or not an interstate natural gas pipeline should be approved. The FERC will use the EA to consider the environmental impact that could result if the project is authorized under section 7 of the Natural Gas Act. NEPA also requires us to discover and address concerns the public may have about proposals to be considered by the Commission. This process is referred to as “scoping.” The main goal of the scoping process is to focus the analysis in the EA on the important environmental issues. With this Notice of Intent, the Commission staff is requesting public comments on the scope of the issues to be addressed in the EA. All comments received will be considered during preparation of the EA.

In the EA we will discuss impacts that could occur as a result of the construction and operation of the proposed project under these general headings:

• Geology and soils;

• Land use;

• Water resources, fisheries, and wetlands;

• Cultural resources;

• Vegetation and wildlife;

• Threatened and endangered species;

• Air quality and noise;

• Hazardous waste; and

• Public safety.

In the EA, we will also evaluate possible alternatives to the proposed projects or portions of the projects, and make recommendations on how to lessen or avoid impacts on affected resources.

Public Participation

You can make a difference by providing us with your specific comments or concerns about the Project. Your comments should focus on the potential environmental effects of the proposal, reasonable alternatives, and measures to avoid or lessen the environmental impacts. The more specific your comments, the more useful they will be. To ensure that your comments are timely and properly recorded, please send in your comments so that they will be received in Washington, DC on or before November 14, 2008.

For your convenience, there are three methods which you can use to submit your comments to the Commission. In all instances please reference the project docket number with your submission. The docket number can be found on the front of this notice. The Commission encourages electronic filing of comments and has dedicated eFiling expert staff available to assist you at (202) 502-8258 or eFiling@ferc.gov.

(1) You may file your comments electronically by using the Quick Comment feature, which is located on the Commission's internet Web site at http://www.ferc.gov under the link to Documents and Filings. A Quick Comment is an easy method for interested persons to submit text-only comments on a project.

(2) You may file your comments electronically by using the eFiling feature, which is located on the Commission's internet Web site at http://www.ferc.gov under the link to Documents and Filings. eFiling involves preparing your submission in the same manner as you would if filing on paper, and then saving the file on your computer's hard drive. You will attach that file as your submission. New eFiling users must first create an account by clicking on “Sign up” or “eRegister”. You will be asked to select the type of filing you are making. A comment on a particular project is considered a “Comment on a Filing.”

(3) You may file your comments via mail to the Commission by sending an original and two copies of your letter to: Kimberly D. Bose, Secretary, Federal Energy Regulatory Commission, 888 First Street NE., Room 1A, Washington, DC 20426.

Label one copy of the comments for the attention of Gas Branch 2, PJ11.2.

Becoming an Intervenor

In addition to involvement in the EA scoping process, you may want to become an official party to the proceeding, or “intervenor”. To become an intervenor you must file a motion to intervene according to Rule 214 of the Commission's Rules of Practice and Procedure (18 CFR 385.214). Intervenors have the right to seek rehearing of the Commission's decision. Motions to Intervene should be electronically submitted using the Commission's eFiling system at http://www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with e-mail addresses may be served electronically; others must be served a hard copy of the filing.

Affected landowners and parties with environmental concerns may be granted intervenor status upon showing good cause by stating that they have a clear and direct interest in this proceeding which would not be adequately represented by any other parties. You do not need intervenor status to have your environmental comments considered.

Additional Information

Additional information about the project is available from the Commission's Office of External Affairs, at 1-866-208-FERC (3372) or on the FERC Internet Web site (http://www.ferc.gov) using the “eLibrary link.” Click on the eLibrary link, select “General Search” and enter the project docket number excluding the last three digits (i.e., PF06-1) in the “Docket Number” field. Be sure you have selected an appropriate date range. For assistance, please contact FERC Online Support at FERCOnlineSupport@ferc.gov or toll free at 1-866-208-3676, or TTY, contact (202) 502-8659. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Texas Gas has established an Internet Web site for the project at www.txgt.com, then click on expansion projects. The Web site includes a description of the project, a map of the proposed pipeline route, and contact information. You may also use Texas Gas' toll free telephone number, 1-866-462-6679 to ask questions about the project.

Nathaniel J. Davis, Sr.,
Deputy Secretary.

[FR Doc. E8-23504 Filed 10-3-08; 8:45 am]

BILLING CODE 6717-01-P